DEPARTMENT OF HOMELAND SECURITY

[Docket No. DHS-2016-0011]

Meeting: Homeland Security Advisory Council

AGENCY: The Office of Public Engagement, DHS.

ACTION: Notice of open teleconference Federal Advisory Committee meeting.

SUMMARY: The Homeland Security Advisory Council (“Council”) will meet via teleconference on March 15, 2016. The meeting will be open to the public.

DATES: The Council conference call will take place from 2:00 p.m. to 4:15 p.m. EST on March 15, 2016. Please note that the meeting may end early if the Council has completed its business.

ADDRESSES: The Council meeting will be held via teleconference. Members of the public interested in participating may do so by following the process outlined below (see “Public Participation”). Written comments must be submitted and received by Wednesday, March 9, 2016. Comments must be identified by Docket No. DHS-2016-0011 and may be submitted by one of the following methods:

• Federal eRulemaking Portal: http://www.regulations.gov. Follow the instructions for submitting comments.

• Email: HSAC@hq.dhs.gov. Include Docket No. DHS-2015-0013 in the subject line of the message.

• Fax: (202) 282-9207.

• Mail: Homeland Security Advisory Council, Department of Homeland Security, Mailstop 0445, 245 Murray Lane SW., Washington, DC 20528.

Instructions: All Submissions received must include the words “Department of Homeland Security” and DHS-2016-0011, the docket number for this action. Comments received will be posted without alteration at http://www.regulations.gov, including any personal information provided.

Docket: For access to the docket to read comments received by the DHS Homeland Security Advisory Council, go to http://www.regulations.gov, search “DHS-2016-0011,” “Open Docket Folder” and provide your comments.

FOR FURTHER INFORMATION CONTACT: Jay Visconti at HSAC@hq.dhs.gov or at (202) 447-3135.

SUPPLEMENTAL INFORMATION: Notice of this meeting is given under sec. 10(a) of the Federal Advisory Committee Act (FACA), Public Law 92-463 (5 U.S.C. App.) requiring each FACA committee meeting to be open to the public.

The Council provides organizationally independent, strategic, timely, specific, and actionable advice and recommendations for the consideration of the Secretary of the Department of Homeland Security (DHS) on matters related to homeland security. The Council is comprised of leaders of local law enforcement, first responders, state, local, and tribal government, the private sector, and academia.

The Council will review and deliberate on the U.S. Customs and Border Protection (CBP) Integrity Advisory Panel and DHS Grant Review Task Force final recommendations. The Council will also vote on the issuance of a letter to Secretary Johnson about countering violent extremism.

Public Participation: Members of the public will be in listen-only mode. The public may register to participate in this Council teleconference via the following procedures. Each individual must provide his or her full legal name and email address no later than 5:00 p.m. EST on Wednesday, March 9, 2016 to a staff member of the Council via email to HSAC@hq.dhs.gov or via phone (202) 447-3135. The conference call details, the CBP Integrity Advisory Panel report and the DHS Grant Review Task Force report will be provided to interested members of the public after the closing of the public registration period and prior to the start of the meeting.

Information on Services for Individuals with Disabilities: For information on facilities or services for individuals with disabilities, or to request special assistance during the teleconference contact Jay Visconti (202) 447-3135.

Dated: February 16, 2016.
Sarah E. Morgenthau,
Executive Director, Homeland Security Advisory Council, DHS.

[FR Doc. 2016-03656 Filed 2-22-16; 8:45 am]

BILLING CODE 9110-9M-P